DEPARTMENT OF TRANSPORTATION

Federal Aviation Administration

Notice of Intent of Waiver With Respect to Land; Greene County/Lewis A. Jackson Regional Airport, Xenia, OH (GDK)

AGENCY: Federal Aviation Administration (FAA), DOT.

ACTION: Notice.

SUMMARY: The FAA is considering a proposal to change 4.044 acres of airport land from aeronautical use to non-aeronautical use and to authorize the sale of airport property located at Greene County/Lewis A. Jackson Regional Airport. The aforementioned land is not needed for aeronautical use. The future use of the property is for a municipal fire station. The land is located in the southwest part of the airport adjacent to N. Valley Road. There are no impacts to the airport by allowing the Greene County Regional Airport Authority to dispose of the property.

DATES: Comments must be received on or before September 29, 2025.

ADDRESSES: All requisite and supporting documentation will be made available for review by appointment at the FAA Detroit Airports District Office, Alex Erskine, Program Manager, 11677 South Wayne Road, Romulus, MI 48174, Telephone: (734) 229-2900/Fax: (734) 229-2950, and Allie Barrett, Manager, Greene County—Lewis A. Jackson Regional Airport, 140 N. Valley Rd., Xenia, OH 45385, (937) 376-8107.

Written comments on the Sponsor's request may be submitted using any of the following methods:

• Federal eRulemaking Portal: Go to http://www.regulations.gov, and follow the instructions for sending your comments electronically.

• Mail: Alex Erskine, Program Manager, Federal Aviation Administration, Detroit Airports District Office, 11677 South Wayne Road, Romulus, MI 48174.

• Hand Delivery: Deliver to mail address above between 8 a.m. and 5 p.m. Monday through Friday, excluding Federal holidays.

• Fax: (734) 229-2950.

FOR FURTHER INFORMATION CONTACT: Alex Erskine, Program Manager, 11677 South Wayne Road, Romulus, MI 48174, Telephone: (734) 229-2900/Fax: (734) 229-2950.

SUPPLEMENTARY INFORMATION: In accordance with section 47107(h) of Title 49, United States Code, this notice is required to be published in the Federal Register 30 days before modifying the land-use assurance that requires the property to be used for an aeronautical purpose.

The vacant land consists of a portion of one (1) acquired parcel. This parcel was acquired under Airport Improvement Program grant 3-39-0091-01. The future use of the property is for a municipal fire station.

The disposition of proceeds from the sale of the airport property will be in accordance with section 47107(c)(2)(b) of Title 49, United States Code.

This notice announces that the FAA is considering the release of the subject airport property at the Greene County-Lewis A. Jackson Regional Airport, Xenia, Ohio from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

BEING 4.044 ACRES OUT OF A 12.834-ACRE TRACT AS RECORDED IN DEED BOOK 231, PAGE 731 OF THE GREENE COUNTY DEED RECORDS, SITUATE IN VIRGINIA MILITARY SURVEY #577, BEAVERCREEK TOWNSHIP, GREENE COUNTY, OHIO AND BEING MORE FULLY DESCRIBED AS FOLLOWS:

Commencing for reference at the southwest corner of an original 166.455-acre tract of land owned by Greene County Regional Airport Authority as conveyed in Official Record 3567, Page 158 and also the southwest corner of Virginia Military Survey 577;

thence, North 26°-36′-17″ West, 1356.24 feet, along the west line of said original 166.455-acre tract to a point;

thence, North 25°-46′-42″ West, 619.87 feet, along the west line of said original 166.455-acre tract to a point at the southwest corner of a tract of land owned by Valley Springs Farm Company as described in Official Record 632, Page 619;

thence, North 64°-14′-56″ East, 3404.16 feet, along the south line of said Valley Springs Farm Company tract to an iron pin with cap set;

thence, South 25°-27′-25″ East, 80.71 feet, along the east line of said 166.455-acre Greene County Regional Airport Authority tract to a point and being the principal place of beginning of the tract herein conveyed;

thence, North 63°-43′-10″ East, 521.31 feet, along the southeast line of said 166.455-acre Greene County Regional Airport Authority tract to a point on the west right-of-way line of N. Valley Road;

thence, on a curve to the left with a radius of 1250.00 feet, an arc distance of 297.92 feet, a delta angle of 13°-39′-21″, and a chord bearing South 13°-20′-50″ East, 297.22 feet, to an iron pin with cap set;

thence, South 20°-10′-30″ East, 80.93 feet, to an iron pin with cap set on a new division line;

thence, South 64°-06′-40″ West, 451.47 feet, to an iron pin with cap set on the east line of a 41.322-acre tract of land owned by Greene County Regional Airport Authority as described in Instrument #2020012798;

thence, North 25°-27′-25″ West, 367.10 feet, along the west line of said 41.322-acre Greene County Regional Airport Authority tract and its extension to the principal place of beginning.

Containing 4.044 acres more or less and all being subject to any legal highways and easements of record.

Issued in Romulus, Michigan on August 26, 2025.
John L. Mayfield, Jr.
Manager, Detroit Airports District Office, FAA, Great Lakes Region.

[FR Doc. 2025-16508 Filed 8-27-25; 8:45 am]

BILLING CODE 4910-13-P